FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than December 10, 2020.

A. Federal Reserve Bank of Chicago

(Colette A. Fried, Assistant Vice President) 230 South LaSalle Street, Chicago, Illinois 60690-1414:

1. Tamara L. Danover, Marion, Iowa; Terry D. Cooper, Cedar Rapids, Iowa, both individually and as co-trustees of the Delhi Bancshares, Inc. Subtrust, and the Delhi Bancshares, Inc. Subtrust, both of Marion, Iowa; Barbara A. Cooper, individually and as trustee of the Delhi Bancshares, Inc. Revocable Trust and the Delhi Bancshares, Inc. Revocable Trust, all of Robins, Iowa; Tad C. Cooper, Cedar Rapids, Iowa; and Tony A. Cooper, Batavia, Illinois; as a group acting in concert and to retain voting shares of Delhi Bancshares, Inc., and thereby indirectly retain voting shares of Heritage Bank, both of Marion, Iowa.

B. Federal Reserve Bank of Kansas City

(Dennis Denney, Assistant Vice President) 1 Memorial Drive, Kansas City, Missouri 64198-0001:

1. L. Bruce Boehs and Sherry Boehs, both of Fairview, Oklahoma; Jared Boehs, Piedmont, Oklahoma; Tess Boehs Wicks, Edmond, Oklahoma; Randall Boehs, individually, and as trustee of the Randall Boehs Living Trust, both of Enid, Oklahoma; Jordan Boehs, individually, and as trustee of the Jordan Boehs Revocable Living Trust, both of Edmond, Oklahoma; to become members of the Boehs Family Group and to retain voting shares of Fairview Bancshares, Inc., and thereby indirectly retain voting shares of Farmers and Merchants National Bank, both of Fairview, Oklahoma.

In addition, L. Bruce Boehs, individually, Donald Lee Martens and Norlene Joyce Martens, both individually and as co-trustees of the Donald Lee Martens Revocable Trust and the Norlene Joyce Martens Revocable Trust, all of Fairview, Oklahoma; to become members of the Boehs-Martens Control Group and to retain voting shares of Fairview Bancshares, Inc., and thereby indirectly retain voting shares of Farmers and Merchants National Bank.

2. Austin P. Buerge, individually, as managing member of APB Investments, LLC, and as trustee of The Robin K. Buerge Spouse's 2020 Trust and The Austin P. Buerge 2020 Separate Property Trust, all of Tulsa, Oklahoma; to become members of the Buerge Family Group, a group acting in concert, to acquire voting shares of Grand Capital Corporation, and thereby indirectly acquire voting shares of Grand Bank, both in Tulsa, Oklahoma.

Board of Governors of the Federal Reserve System, November 20, 2020.
Michele Taylor Fennel,
Deputy Associate Secretary of the Board.

[FR Doc. 2020-26114 Filed 11-24-20; 8:45 am]

BILLING CODE P